DEPARTMENT OF ENERGY

Agency Information Collection Under Review by the Office of Management and Budget (OMB)

AGENCY: Department of Energy.

ACTION: Submission for OMB review; comment request.

SUMMARY: The Department of Energy (DOE) has submitted an information collection package to the OMB for renewal under the Paperwork Reduction Act of 1995. The package requests a 3-year extension of its financial assistance information collection, OMB Control Number 1910-0400, titled “Financial Assistance”. This information collection package covers information necessary to solicit, negotiate, award and administer grants and cooperative agreements under the Department's financial assistance programs. The information is used by Departmental management to exercise management oversight, with respect to the implementation of applicable statutory and regulatory requirements and obligations. The collection of this information is critical to ensure the Government has sufficient information to judge the degree to which awardees meet the terms of their agreements; that public funds are being spent in the manner intended; and that fraud, waste, and abuse are immediately detected and eliminated.

Dates and Addresses: Comments regarding the information collection package should be submitted to the OMB Desk Officer at the following address no later than November 4, 2002. DOE Desk Officer, Office of Information and Regulatory Affairs (OIRA), Office of Management and Budget, Docket Library, Room 10102, 725 17th Street, NW., Washington, DC 20503. If you anticipate that you will be submitting comments, but find it difficult to do so within the period of time allowed by this notice, you should advise the OMB Desk Officer of your intention to do so as soon as possible. The Desk Officer may be telephoned at (202) 395-3087.

FOR FURTHER INFORMATION CONTACT: Susan L. Frey , Director, Records Management Division, Office of Records and Business Management, Office of the Chief Information Officer, U.S. Department of Energy, Washington, DC 20585-1290, (301) 903-3666, or e-mail susan.frey@hq.doe.gov. (Also notify Richard B. Langston, Office of Procurement and Assistance Policy (ME-61), Washington, DC 20585 or e-mail richard.langston@hq.doe.gov.)

SUPPLEMENTARY INFORMATION: The package contains: (1) Title: Financial Assistance;

(2) Current OMB Control Number: 1910-0400; (3) Type of Respondents: DOE financial assistance applicants and awardees; (4) Estimated Number of Responses: 44,457; (5) Estimated Total Burden Hours: 15,544, including recordkeeping hours, required to provide the information; (6) Purpose: This information is required by the Department to ensure that programmatic and administrative management requirements and resources are managed efficiently and effectively and to exercise management oversight of DOE award recipients; (7) Number of Collections: The package contains 58 information and/or recordkeeping requirements.

Statutory Authority: Section 3506(c)(2)(A) of the Paperwork Reduction Act of 1995 (Pub. L. No. 104-13).

Issued in Washington, DC, on September 30, 2002.
Susan L. Frey,
Director, Records Management Division, Office of Records and Business Management, Office of the Chief Information Officer.

[FR Doc. 02-25256 Filed 10-3-02; 8:45 am]

BILLING CODE 6450-01-P